DEPARTMENT OF ENERGY

Electric Vehicle Working Group

AGENCY: Department of Energy.

ACTION: Notice of open meeting.

SUMMARY: The Department of Energy hereby publishes a notice of open meeting of the Electric Vehicle Working Group (EVWG). The Federal Advisory Committee Act requires that public notice of these meetings be announced in the Federal Register.

DATES: Tuesday, September 26, 2023; 1:00 p.m.-4:00 p.m. Eastern Time.

ADDRESSES: The meeting will be held virtually. Members of the public who would like to participate must register at: https://driveelectric.gov/ev-working-group.

FOR FURTHER INFORMATION CONTACT: Dr. Rachael Nealer, Designated Federal Officer, U.S. Department of Energy, 1000 Independence Avenue SW, Washington, DC 20585; email: evwg@ee.doe.gov; telephone: (202) 586-3916.

SUPPLEMENTARY INFORMATION: Background: The Electric Vehicle Working Group (EVWG) was formed by the Joint Office of Energy and Transportation to make recommendations to the Secretaries of Energy and Transportation regarding the development, adoption, and integration of light-, medium-, and heavy-duty electric vehicles (EVs) into the U.S. transportation and energy systems.

Purpose of the Meeting: This is the inaugural meeting of the EVWG.

Tentative Agenda: The meeting will start at 1:00 p.m. Eastern Time on Tuesday, September 26, 2023. The tentative meeting agenda includes: an introduction of EVWG members, a review of the role of the EVWG, and a discussion of potential report topics that the EVWG will research. Meeting materials and a link to registration can be found here: https://driveelectric.gov/ev-working-group.

Public Participation: This virtual meeting is open to the public. Individuals who would like to attend must register for the meeting here: https://driveelectric.gov/ev-working-group.

Individuals and representatives of organizations who would like to offer comments and suggestions may do so during the public comment portion of the meeting. Approximately 25 minutes will be reserved for public comments at the end of the meeting. Time allotted per speaker will depend on the number who wish to speak but will not exceed three minutes. The Designated Federal Officer is empowered to conduct the meeting in a fashion that will facilitate the orderly conduct of business. Those wishing to speak during the public comment period should indicate so within their registration.

Those not able to attend the meeting or who have insufficient time to address the committee are invited to send a written statement to Dr. Rachael Nealer, U.S. Department of Energy, 1000 Independence Avenue SW, Washington, DC 20585, or email: evwg@ee.doe.gov.

Minutes: The minutes of the meeting will be available on https://driveelectric.gov/ev-working-group or by contacting Dr. Nealer. She may be reached at the above postal address or email address.

Signed in Washington, DC, on August 30, 2023.
LaTanya Butler,
Deputy Committee Management Officer.

[FR Doc. 2023-19112 Filed 9-5-23; 8:45 am]

BILLING CODE 6450-01-P